DEPARTMENT OF JUSTICE

National Institute of Corrections

Solicitation for a Cooperative Agreement—New Jail Planning Initiative: Review and Revision

AGENCY: National Institute of Corrections, U.S. Department of Justice.

ACTION: Solicitation for a Cooperative Agreement.

SUMMARY: The National Institute of Corrections (NIC) Jails Division is seeking applications for the revision of its services related to new jail planning. The project will be for an 18-month period and will be carried out in conjunction with the NIC Jails Division. The awardee will work closely with NIC staff on all aspects of the project. To be considered, applicants must demonstrate, at a minimum: (1) In-depth knowledge of the purpose, functions, and operational complexities of local jails, (2) extensive experience in the roles of architect and planner in the new-jail planning process, as taught by NIC (see Supplementary Information), and (3) expertise and experience in developing curricula based on adult learning principles, specifically the Instructional Theory Into Practice (ITIP) model.

DATES: Applications must be received by 4 p.m. (EDT) on Friday, June 10, 2011.

ADDRESSES: Mailed applications must be sent to: Director, National Institute of Corrections, 320 First Street, NW., Room 5002, Washington, DC 20534. Applicants are encouraged to use Federal Express, UPS, or similar service to ensure delivery by the due date as mail at NIC is sometimes delayed due to security screening.

Applicants who wish to hand-deliver their applications should bring them to 500 First Street, NW., Washington, DC 20534, and dial 202-307-3106, ext. 0, at the front desk for pickup.

Faxed or e-mailed applications will not be accepted; however, electronic applications can be submitted via http://www.grants.gov.

FOR FURTHER INFORMATION CONTACT: A copy of this announcement and links to the required application forms can be downloaded from the NIC Web site at http://www.nicic.gov/cooperativeagreements.

Questions about this project and the application procedures should be directed to Mike Jackson, Correctional Program Specialist, National Institute of Corrections. Questions must be sent via e-mail to Mr. Jackson at mpjackson@bop.gov. Mr. Jackson will respond via e-mail to the individual. Also, all questions and responses will be posted on NIC's Web site at http://www.nicic.gov for public review. (The names of those submitting the questions will not be posted).The Web site will be updated regularly and postings will remain on the Web site until the closing date of this cooperative agreement solicitation.

SUPPLEMENTARY INFORMATION:

Background: The NIC Jails Division offers technical assistance, training, and information on new jail planning to local jurisdictions nationwide. These services cover the full range of activities related to new jail planning, from exploration of the need for a new jail to the decision to build through design, construction, and occupation of the new facility.

Based on a recent review of these services, NIC intends to revise its training and technical assistance to ensure it most effectively meets the needs of local jurisdictions considering building a new jail.

NIC's training and technical assistance on new jail planning currently includes:

Jail and Justice System Assessment—This is a 3-day onsite technical assistance event for individual jurisdictions that are considering renovating an existing jail or constructing a new one because their jail is crowded or in poor condition. Assessment activities include a review of the current jail and interviews with local criminal justice system officials on policies and practices that affect the jail population. This assistance results in recommendations for local officials about possible improvements they can make to the existing jail, construction of jail beds, and ways in which criminal justice system practices might be modified to alleviate jail crowding.

Planning of New Institutions—This 4-day training program conducted at NIC's training center in Colorado is for jurisdictions that have made the commitment to build a new jail or renovate an old one. It focuses on the critical elements of planning a new facility, including collecting and using data, pre-architectural programming, site evaluation, project management, and determining staffing needs. The program stresses the importance of in-depth planning before starting facility design and the need for the owners and operators of the new jail to maintain control of the planning process.

Managing Jail Design and Construction—This 4-day training program conducted at NIC's training center in Colorado is for jurisdictions that are ready to begin designing a new jail. It targets three-person jurisdictional teams whose members have key decision-making roles in the project. These teams may include the sheriff, the jail administrator, the project manager, transition team leader, or other assigned staff member. The program introduces participants to project management and clarifies the roles and responsibilities of those who develop, design, and construct new facilities. Through a variety of exercises, the program guides participants in understanding how the nuances of jail operations must be translated into design. Jurisdictional teams learn how to read and interpret facility planning documents, manage changes during construction, and develop a design and construction plan that meets their needs.

How to Open a New Institution—This training program is delivered onsite for individual jurisdictions that are within 12-18 months of opening a new jail. It is designed for the transition team—those staff charged with planning the details of the day-to-day operations of the new facility and the transition into that facility. Training is provided on the function of the jail's mission statement; development of operational scenarios, policies, procedures, and post orders; move logistics; staff training issues; budgeting for transition; and development of an action plan for transition.

The cooperative agreement awardee will complete revisions to all four of these services, ensuring that information about new jail planning is consistent both with the NIC model and across all four services.

Scope of Work

Revisions to the Jail and Justice System Assessment

Currently, NIC service providers collect a variety of information about the local jurisdiction's criminal justice system by gathering data, reviewing the jail, and interviewing key criminal justice system officials. In the revised Jail and Justice System Assessment, NIC service providers will no longer collect data or interview criminal justice officials about system practices. Instead, the service providers will help local officials understand the importance of making a well-informed decision regarding the need for a new jail; the role information plays in decision-making; the need to explore local criminal justice system policies and practices, and how they affect the average daily population and length of stay; and non-jail options for arrestees and offenders.

Service providers will also give an overview of the new jail planning process, stressing the importance of planning and the need for the jail's owners and operators to direct the planning process. In addition, they will review the jail, but only briefly and only as it relates to (1) the condition of the physical plant, (2) major operational challenges posed by the physical plant, and (3) crowding. The revised Jail and Justice System Assessment will be a 2-day technical assistance event conducted onsite in the requesting jurisdiction.

To accomplish these revisions, the awardee will identify pre-service information that the jurisdiction must supply to NIC; develop a form that the jurisdiction will use to record the requested information; identify the elements of the jail review; develop a guide and checklist for the jail review; develop a presentation guide, with presentation slides and participant handouts, on how to determine the need for a new jail, non-jail options, and the new jail planning process; conduct and assess one pilot of the revised Jail and Justice System Assessment; revise the Jail and Justice System Assessment and related materials as indicated by the assessment of the pilot.

NIC Review: All draft materials must be sent to NIC for review and approval before they are piloted and again before they are submitted as a final product.

NIC Reviews: The awardee will deliver the pre-service information form, the jail review guide and checklist, the presentation guide, and related materials in hard copy (1) and on disk. The awardee must also ensure that all products meet NIC's standards for accessibility and Section 508 compliance.

Revisions to the Planning of New Institutions Training Program

Much of the basic content in this program will not be changed. However, some information will be added and this is likely to result in some new modules. NIC will add information on “green” facilities and Leadership in Energy and Environmental Design (LEED) certification; keeping up the new jail planning momentum in the face of political and personnel changes; planning to ensure the jail has resources to support intended operations over the long term; and the importance of the transition process and the role of the transition team.

Although most of the program's content remains relevant, the program must be reviewed in its entirety to ensure effective sequencing, timing, and consistency of information among modules. Also, all lesson plans and other curriculum components must be redesigned to conform to the Instructional Theory into Practice model of training for adult learners. This will require significant revision. All lesson plans, all sections of the participant manual, and all presentation slides must be consistent in format, voice, and level of detail. All materials must have a professional appearance in accordance with the style and design direction provided by NIC.

The project director and the curriculum specialist must attend the current PONI program scheduled for August 22-25, 2011 in Aurora, Colorado to gain insight into the program. Revisions to this program should be ready to pilot during the first year of the cooperative agreement. Both the project director and the curriculum specialist must attend this program. The awardee will then refine the program and related materials based on the assessment of the pilot.

NIC Reviews: All draft materials must be sent to NIC for review and approval before they are piloted and again before they are submitted as a final product.

Final Product: The final curriculum will includea program description (overview); detailed narrative lesson plans; presentation slides for each lesson plan; a participant manual that follows the lesson plans; and other training materials as identified through this project. The curriculum will be designed according to the Instructional Theory Into Practice model for adult learners. Lesson plans will be in a format that NIC provides. The awardee will deliver all materials in hard copy (1) and on a disk. The awardee must also ensure that all products meet NIC's standards for accessibility and Section 508 compliance. Revisions to the Managing Jail Design and Construction training program:

This program will be redesigned for onsite delivery to individual local jurisdictions. The redesigned program will be up to 3 days long and will not include the 1-day jail tour that is part of the current program.

Most of the content will remain the same, however, the training materials will need to be revised to reflect a single-jurisdiction audience. Also, the revised program must be reviewed in its entirety to ensure effective sequencing, timing, and consistency of information among modules. All lesson plans and other curriculum components must be redesigned to conform to the Instructional Theory into Practice model of training for adult learners. This will require significant revision. All lesson plans, all sections of the participant manual, and all presentation slides must be consistent in format, level of detail, and voice. All materials must have a professional appearance in accordance with the style and design direction provided by NIC.

NIC Reviews: All draft materials must be sent to NIC for review and approval before they are piloted and again before they are submitted as a final product.

Final Product: The final curriculum will include a program description (overview); detailed narrative lesson plans; presentation slides for each lesson plan; and a participant manual that follows the lesson plans. The curriculum will be designed according to the Instructional Theory Into Practice model for adult learners. Lesson plans will be in a format that NIC provides. The awardee will deliver all materials in hard copy (1) and on a disk. The awardee must also ensure that all products meet NIC's standards for accessibility and Section 508 compliance. Revisions to the How to Open a New Institution training program:

This program will not be revised; however, the awardee will develop one brief lesson plan and related training materials for one module on reading and interpreting construction documents.

Meetings

The cooperative agreement awardee, with subject matter experts and the curriculum specialist, will attend an initial meeting with the NIC staff for a project overview and preliminary planning. This will take place shortly after the cooperative agreement is awarded and will be held in Washington, DC. The meeting will last up to two full days.

The awardee, with subject matter experts and the curriculum specialist, should also plan to meet with NIC staff at least two more times during the course of the project. These meetings will last up to 2 days and may focus on project development and updates. Only one of these meetings will be held in Washington, DC.

The awardee, with subject matter experts, should plan to meet via WebEx several times at key points during the project for updates and project development activities. NIC will host these meetings, which will last up to two hours. The meeting itself will be at NIC's expense, but fees for project staff who attend the meeting will be charged to the cooperative agreement.

Application Requirements: An application package must include OMB Standard Form 425, Application for Federal Assistance; a cover letter that identifies the audit agency responsible for the applicant's financial accounts as well as the audit period or fiscal year under which the applicant operates (e.g., July 1 through June 30); and an outline of projected costs with the budget and strategy narratives described in this announcement. The following additional forms must also be included: OMB Standard Form 424A, Budget Information—Non-Construction Programs; OMB Standard Form 424B, Assurances—Non-Construction Programs (both available at http://www.grants.gov); DOJ/FBOP/NIC Certification Regarding Lobbying, Debarment, Suspension and Other Responsibility Matters; and the Drug-Free Workplace Requirements (available at http://www.nicic.org/Downloads/PDF/certif-frm.pdf.)

Applications should be concisely written, typed double spaced, and reference the NIC opportunity number and title referenced in this announcement. If you are hand delivering or submitting via Fed-Ex, please include an original and three copies of your full proposal (program and budget narrative, application forms, assurances and other descriptions). The original should have the applicant's signature in blue ink. Electronic submissions will be accepted only via http://www.grants.gov.

The narrative portion of the application should include, at a minimum, a brief paragraph indicating the applicant's understanding of the project's purpose; a brief paragraph that summarizes the project goals and objectives; a clear description of the methodology that will be used to complete the project and achieve its goals; a statement or chart of measurable project milestones and timelines for the completion of each milestone; a description of the qualifications of the applicant organization; a resume for the principle and each staff member assigned to the project (including instructors) that documents relevant knowledge, skills, and abilities to carry out the project; and a budget that details all costs for the project, shows consideration for all contingencies for the project, and notes a commitment to work within the proposed budget.

The narrative portion of the application should not exceed ten double-spaced typewritten pages, excluding attachments related to the credentials and relevant experience of staff.

In addition to the narrative and attachments, the applicant must submit two full sample curricula developed by the primary curriculum developer named in the application. For each sample curriculum, the applicant must submit lesson plans, presentation slides, and a participant manual.

Authority: Public Law 93-415.

Funds Available: NIC is seeking the applicant's best ideas regarding accomplishment of the scope of work and the related costs for achieving the goals of this solicitation. Funds may be used only for the activities that are linked to the desired outcome of the project. The funding amount should not exceed $300,000.

Eligibility of Applicants: An eligible applicant is any state or general unit of local government, private agency, educational institution, organization, individual, or team with expertise in the described areas. Applicants must have demonstrated ability to implement a project of this size and scope.

Review Considerations: Applications will be subject to the NIC Review Process. The criteria for the evaluation of each application will be as follows:

Project Design and Management—30 Points

Is there a clear understanding of the purpose of the project and the nature and scope of project activities? Does the applicant give a clear and complete description of all work to be performed for this project? Does the applicant clearly describe a work plan, including objectives, tasks, and milestones necessary to project completion? Are the objectives, tasks, and milestones realistic and will they achieve the project as described in NIC's solicitation for this cooperative agreement? Are the roles and the time required of project staff clearly defined? Is the applicant willing to meet with NIC staff, at a minimum, as specified in the solicitation for this cooperative agreement?

Applicant Organization & Project Staff Background—50 Points

Is there a description of the background and expertise of all project personnel as they relate to this project? Is the applicant capable of managing this project? Does the applicant have an established reputation or skill that makes the applicant particularly well qualified for the project? Do primary project personnel, individually or collectively, have in-depth knowledge of the purpose, functions, and operational complexities of local jails? Do the primary project personnel, individually or collectively, have expertise on the key elements in jail administration? Do the primary project personnel, individually or collectively, have expertise and experience specified in the SUMMARY section of this Request for Proposal? Does the staffing plan propose sufficient and realistic time commitments from key personnel? Are there written commitments from proposed staff that they will be available to work on the project as described in the application?

Budget—20 Points

Does the application provide adequate cost detail to support the proposed budget? Are potential budget contingencies included? Does the application include a chart that aligns the budget with project activities along a timeline with, at a minimum, quarterly benchmarks? In terms of program value, is the estimated cost reasonable in relation to work performed and project products?

Sample Curricula—70 Points (35 Points per Curriculum)

Does the sample curriculum include all components specified in the RFP (lesson plans, presentation slides, and participant manual)? Are the lesson plans designed according to the Instructional Theory Into Practice model? Does each lesson plan have performance objectives that describe what the participants will accomplish during the module? Are the lesson plans detailed, clear, and well written (spelling, grammar, punctuation)? Is the participant manual clear, and does it follow the lesson plans? Do the presentation slides effectively illustrate information in the lesson plans? Do the presentation slides have a professional appearance, and can they be easily read from a distance of 30-40 feet?

Note: NIC will NOT award a cooperative agreement to an applicant who does not have a Dun and Bradstreet Database Universal Number (DUNS) and is not registered in the Central Contractor Registry (CCR). Applicants can obtain a DUNS number at no cost by calling the dedicated toll-free DUNS number request line at 800-333-0505. Applicants who are sole proprietors should dial 866-705-5711 and select option #1.

Applicants may register in the CCR online at the CCR Web site at http://www.ccr.gov. Applicants can also review a CCR handbook and worksheet at this Web site.

Number of Awards: One

NIC Opportunity Number: 11JA03. This number should appear as a reference line in the cover letter, where the opportunity number is requested on Standard Form 424, and on the outside of the envelope in which the application is sent.

Catalog of Federal Domestic Assistance Number: 16.601.

Executive Order 12372: This project is not subject to the provisions of the executive order.

Morris L. Thigpen,
Director, National Institute of Corrections.

[FR Doc. 2011-12455 Filed 5-19-11; 8:45 am]

BILLING CODE 4410-36-P